DEPARTMENT OF TRANSPORTATION

National Highway Traffic Safety Administration

[Docket No. NHTSA-2022-0035]

Agency Information Collection Activities; Notice and Request for Comment; Consolidated Labeling Requirements for 49 CFR Part 541 and Procedures for Selecting Lines To Be Covered by the Theft Prevention Standard for 49 CFR Part 542

AGENCY: National Highway Traffic Safety Administration (NHTSA), Department of Transportation (DOT).

ACTION: Notice and request for comments on a reinstatement of a previously approved information collection.

SUMMARY: In compliance with the Paperwork Reduction Act of 1995 (PRA), this notice announces that the Information Collection Request (ICR) summarized below has been forwarded to the Office of Management and Budget (OMB) for review and approval. The ICR describes the nature of the information collections and their expected burden for consolidated labeling requirements and procedures for selecting lines to be covered by the Theft Prevention Standard. A Federal Register Notice with a 60-day comment period for approval of a reinstatement of this previously approved information collection was published on January 12, 2022. The agency received no comments.

DATES: Comments must be submitted on or before June 2, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: Ms. Carlita Ballard at the National Highway Traffic Safety Administration, Office of International Policy, Fuel Economy and Consumer Programs (NRM-310), 1200 New Jersey Avenue SE, West Building, Room W43-439, Washington, DC 20590. Ms. Ballard's telephone number is (202) 366-5222. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted to OMB.

A Federal Register notice with a 60-day comment period soliciting public comments on the following information collection was published on January 12, 2022 (87 FR 1833). The agency received no comments.

Title: Consolidated Labeling Requirements for 49 CFR part 541 and Procedures for Selecting Lines to be Covered by the Theft Prevention Standard for 49 CFR part 542.

OMB Control Number: 2127-0539.

Type of Request: Reinstatement of a previously approved information collection.

Type of Review Requested: Regular.

Length of Approval Requested: Three years.

Summary of the Collection of Information: 49 U.S.C. Chapter 331 requires the Secretary of Transportation, and NHTSA by delegation, to promulgate a theft prevention standard to provide for the identification of certain motor vehicles and their major replacement parts (parts-marking) to impede motor vehicle theft. NHTSA's theft prevention standard at 49 CFR part 541 specifies performance requirements for identifying numbers or symbols (generally the vehicle identification number (VIN)) to be placed on major parts of all passenger vehicles subject to the theft prevention standard. In 1984, Congress enacted the Motor Vehicle Theft Law Enforcement Act (The Theft Act) directing NHTSA to issue a theft prevention standard requiring vehicle manufacturers to mark the major parts of high-theft lines of passenger motor vehicles. (Pub. L. 98-547.) In 1992, Congress enacted the Anti Car Theft Act (Pub. L. 102-519, codified at 49 U.S.C. chapter 331), which expanded the parts-marking requirement to include multipurpose passenger vehicles and certain light duty trucks. In a final rule published on April 6, 2004 (69 FR 17960), the Federal Motor Vehicle Theft Prevention Standard was extended to include all passenger cars and, multipurpose passenger vehicles with a gross vehicle weight rating (GVWR) of 6,000 pounds or less, all light-duty trucks (LDTs) determined to be high-theft (with a gross vehicle weight rating of 6,000 pounds or less) and all low-theft LDTs with major parts that are interchangeable with a majority of the covered major parts of those passenger motor vehicle lines subject to the theft prevention standard. The five information collections are: (1) The requirement to mark major parts of covered motor vehicles; (2) the requirement to submit to NHTSA target areas showing where the parts will be marked; (3) the requirement that manufacturers maintain the designated target areas for the duration of the production of the vehicle line; (4) the requirement for manufacturers of new LDT lines to submit information to NHTSA to allow the agency to determine whether the LDT line will be required to comply with the parts-marking requirements because it is likely to be a high theft line; and (5) the requirement for manufacturers of new LDT lines to submit information to NHTSA to allow the agency to determine the LDT will be required to comply with the parts-marking requirements because it contains major parts that are interchangeable with the majority of the covered major parts of passenger motor vehicles covered by the standard. Each of the information collections are describe in more detail below.

49 CFR Part 541—Federal Motor Vehicle Theft Prevention Standard: The Theft Act requires specified parts of high-theft vehicles to be marked with vehicle identification numbers (parts-marking). Part 541 specifies performance requirements for identifying numbers or symbols to be placed on major parts of certain passenger motor vehicles to reduce the incidence of motor vehicle thefts through tracing and recovery of parts from stolen vehicles. All passenger cars and multipurpose passenger vehicles with a gross vehicle weight rating of 6,000 pounds or less, and light duty trucks with major parts that are interchangeable with the majority of the covered major parts of passenger motor vehicles covered by the standard are required to be parts-marked. Each major component part must be either labeled or affixed with the VIN and its replacement component part must be marked with the “DOT” symbol, the letter “R” and the manufacturers' logo. For each vehicle line, manufacturers must inform NHTSA of the location of the VIN marking on each part (target area) and the location of the VIN marking for the replacement part. This information is publicly available to aid law enforcement personnel in tracing stolen vehicles and their parts. In addition, the manufacturer must maintain the target area designated for a part on a vehicle line for the duration of the production of the vehicle line, unless a restyling of the part makes it no longer practicable to mark within the original target area.

49 CFR Part 542—Procedures for Selecting Light Duty Truck Lines to be Covered by the Theft Prevention Standard: Manufacturers of light duty trucks must identify new model introductions that are likely to be high-theft vehicle lines as defined in 49 U.S.C. 33104. The specific vehicle lines are to be selected by agreement between the manufacturer and the agency. NHTSA's procedures for selecting high-theft vehicle lines are contained in 49 CFR part 542. Manufacturers use the criteria in Appendix C of part 541 to evaluate new lines and determine whether the new line is likely to be high theft. Next, the manufacturers submit their evaluations and conclusions, together with the underlying factual information, to NHTSA at least 15 months before introduction of the vehicle line into U.S. commerce.

Description of the Need for the Information and Proposed Use of the Information

49 CFR Part 541: The identification of major parts of high theft motor vehicle lines is designed to decrease automobile theft by making it more difficult for criminals to “chop” vehicles into component parts and then fence such parts. The information would aid law enforcement officials at all levels of Government in the investigation of “chop shops” by creating evidence for prosecution of the operators for possession of stolen motor vehicle parts. Officials have great difficulty in establishing that particular parts in the possession of a “chop shop” are in fact stolen when the parts are not marked. Operators of both “chop shops” and auto body repair shops would avoid possession of parts bearing identification that links the parts to a stolen vehicle. Also, stolen parts, when recovered, could not easily be traced back to the proper owner and returned to the owner or insurer if the parts were not marked. Congress intended for major parts identification to decrease the market for stolen parts and, therefore, decrease the incentive for motor vehicle theft.

49 CFR Part 542: Manufacturers of light duty trucks must identify new model introductions that are likely to be high-theft vehicle lines as defined in 49 U.S.C. 33104. Because the specific vehicle lines are to be selected by agreement between the manufacturer and NHTSA, the agency could not perform its statutory requirement without the information provided by the manufacturers.

60-Day Notice

A Federal Register notice with a 60-day comment period soliciting public comments on the following information collection was published on January 12, 2022 (87 FR 1833). NHTSA received no comments.

Affected Public: Motor vehicle manufacturers.

Estimated Number of Respondents: 21.

There are approximately 21 manufacturers that are required to comply with the parts marking requirements of part 541 each year and submit information on target areas to NHTSA. For the information collections contained in part 542, NHTSA estimates that there are currently 7 manufacturers of LDTs that could be subject to the parts-marking requirements. However, these manufacturers are not required to submit information every year. Instead, these manufacturers would only need to submit information under part 542 before they introduce a new LDT line. Because NHTSA estimates that it will only receive one submission under section 542.1 and one submission under section 542.2 in each of the next three years, NHTSA estimates there will only be one respondent to these information collections annually.

Frequency: On Occasion.

Manufacturers comply with the parts-marking requirements when they manufacture new vehicles. Manufacturers submit new target area information when they introduce new vehicle lines or make changes to existing vehicle lines that require changes to where parts are marked. Manufacturers only submit information under part 542 when they introduce new LDT lines.

Number of Responses: 1.

For the five information collections in part 541 and part 542, NHTSA estimates the annual number of responses as follows: (1) 4.5 million for the parts-marking requirement; (2) 23 for submissions of target area information; (3) 23 for maintaining of target area information; (4) 1 for reporting on whether a LDT line is likely to be high-theft; and (5) 1 for reporting on whether a LDT line shares interchangeable parts with a high theft line subject to the parts-marking requirements.

Estimated Total Annual Burden Hours: 150,550.

49 CFR Part 541: The agency estimates that, based on the most currently available data, there has been a decrease in the production of vehicles requiring parts-marking from 8 million vehicles to approximately 4.5 million for all manufacturers. To calculate the burden associated with the parts marking requirement, NHTSA assumes that manufacturers will use the least burdensome method for complying with the requirement, based on historical practice and the agency's current understanding of how manufacturers fit labeling into the vehicle assembly line. For the antitheft requirement, the cost of labeling the major parts (i.e., a paper label with the VIN is placed on each major part) is less than the cost of stamping the VIN on each major part with a stamping machine.

To meet the Theft Prevention Standard, the agency estimates that the time to number and affix the average of 14 labels to each vehicle is approximately 2 minutes. If 4.5 million vehicles are covered, the hourly burden for labeling 4.5 million motor vehicles would be 150,000 hours (4.5 million cars × 2 minutes per car ÷ 60 minutes in an hour).

The agency estimates that the time to stamp both the engine and transmission will take approximately 1 minute. If 4.5 million vehicles are covered, the total burden for stamping is estimated to total 75,000 hours (4.5 million cars × 1 minute per car ÷ 60 minutes in an hour). Please note that in this analysis each vehicle would either have its major parts labeled or stamped, but not both. As discussed above, since affixing paper labels is estimated to be cost less for manufacturers, NHTSA has estimated the burden of the parts marking requirements using the estimates for affixing paper labels. Therefore, NHTSA estimates the total burden for parts-marking to be 150,000 hours annually.

Each manufacturer of vehicles that are required to be parts-marked must submit reports of the target area locations for the labels or stamping. The target area designated for a part on a vehicle line shall be maintained for the duration of the production of the vehicle line, unless a restyling of the part makes it no longer practicable to mark within the original target area. If there is such a restyling, the vehicle manufacturer shall inform NHTSA of that fact and provide a new target area submission. NHTSA estimates that there is no additional hour burden to maintain the target area designation because maintaining the designation is built into the production process of a new vehicle line and the record of the target designation is kept electronically in the normal course of business.

NHTSA estimates that approximately 70 target area responses will be submitted to the agency in the next three years, or approximately 23 submissions each year. This estimate is based on the number of the submissions over the three-year period for MYs 2019-2021. Specifically, 18, 29 and 23 target areas were submitted for MYs 2019, 2020 and 2021, respectively. Due to the decreased production of vehicles requiring parts-marking, the agency estimates on an average, there will be a total of 23 target areas submitted by approximately 21 manufacturers. The average time to prepare and submit the target areas is estimated to be 20 hours for each submission. The burden hour for submissions will be 460 hours (23 submissions × 20 hours).

NHTSA estimates the labor cost associated with this collection of information by (1) applying the appropriate average hourly labor rate published by the Bureau of Labor Statistics (BLS), (2) dividing by 0.702 ¹ (70.2%), for private industry workers to obtain the total cost of compensation, and (3) multiplying by the estimated burden hours for each respondent type. NHTSA estimates the labor costs associated with preparing and affixing labels to 14 major parts under § 541.5(a) using the average wage for manufacturers and assemblers in the motor vehicle manufacturing industry (Standard Occupational Classification #51-2000), which BLS estimates to be $23.18 ² per hour. Using this estimate, NHTSA estimates the total compensation costs per hour to be $33.02 per hour ($23.18 per hour ÷ 0.702). The labor cost per vehicle is estimated to be $1.10 ($33.02 × 2 minutes/60), and the total labor cost for preparing and affixing labels to the estimated 4.5 million vehicles each year is estimated to be $4,953,000 ($1.10 × 4.5 million vehicles).

¹ See Table 1. Employer Costs for Employee Compensation by ownership (Mar. 2020), available at https://www.bls.gov/news.release/archives/ecec_06182020.pdf (accessed August 31, 2021).

² May 2020 National Industry-Specific Occupational Employment and Wage Estimates, NAICS 336100—Motor Vehicle Manufacturing, Assemblers and Fabricators, Occupation Code 51-2000, https://www.bls.gov/oes/2020/may/oessrci.htm (accessed August 31, 2021).

NHTSA estimates the labor costs associated with developing and submitting reports of the target area locations for labels or stamping under § 541.5(e) using the average wage for compliance officers in the motor vehicle manufacturing industry (Standard Occupational Classification #13-1041), which BLS estimates to be $42.30 ³ per hour. Using this estimate, NHTSA estimates the total compensation costs per hour to be $60.26 per hour ($42.30 per hour ÷ 0.702). The labor cost to prepare each report submitted under § 541.5(e) is estimated to be $1,205.20 ($60.26 × 20 hours per submission), and the total labor cost for the estimated 23 target area reports that will be submitted each year is estimated to be $27,720 ($1,205.20 × 23 reports, rounded).

³ May 2020 National Industry-Specific Occupational Employment and Wage Estimates, NAICS 336100—Motor Vehicle Manufacturing, Compliance Officer, Occupation Code 13-1041, https://www.bls.gov/oes/2020/may/naics4_336100.htm#13-0000 (accessed August 31, 2021).

NHTSA estimates that Part 541 will impose an annual reporting burden of 150,460 burden-hours, and the total estimated labor costs associated with these burden hours endured by the responding manufacturers are $4,977,720 ($4,950,000 + $27,720).

49 CFR Part 542: Currently there are seven manufacturers who produce LDTs that could be subject to the parts-marking requirements. While NHTSA estimates that all seven are still active in the U.S. market, only manufacturers that introduce new LDT lines would be required to report to NHTSA under 49 CFR 542.1 and 49 CFR 542.2. On average, NHTSA estimates that approximately that one LDT line will be introduced each year for which the manufacturer will need to submit information under § 542.1 and one LDT line will be introduced for which the manufacturer will need to submit information under § 541.2.

Section 542.1 specifies procedures for motor vehicle manufacturers and the agency to follow in the determination of new LDT lines that are likely to have a theft rate above or below the median theft rate of 3.5826. This section also provides the manufacturers with notice of their rights and responsibilities during the selection and appeals process. On average, NHTSA estimates that there will be approximately one manufacturer submittal a year. NHTSA further estimates that the burden for each § 542.1 submittal is approximately 45 hours. Therefore, the total annual burden for § 542.1 submittals is estimated to be 45 hours.

Section 542.2 specifies procedures for motor vehicle manufacturers and NHTSA to follow in the determination of new LTD lines that will likely have a low theft rate and have major parts interchangeable with a majority of the major parts of a passenger motor vehicle line subject to the parts-marking requirements. This section also provides the manufacturers with notice of their rights and responsibilities during the selection and appeal process. On average, NHTSA estimates that there will be approximately one manufacturer submittal a year. NHTSA further estimates that the burden for each § 542.2 submittal is approximately 45 hours. Therefore, the total annual burden for § 542.2 submittals is estimated to be 45 hours.

NHTSA estimates the labor cost associated with this collection of information by (1) applying the appropriate average hourly labor rate published by the Bureau of Labor Statistics (BLS), (2) dividing by 0.702 ⁴ (70.2%), for private industry workers to obtain the total cost of compensation, and (3) multiplying by the estimated burden hours for each respondent type.

⁴ See Table 1. Employer Costs for Employee Compensation by ownership (Mar. 2020), available at https://www.bls.gov/news.release/archives/ecec_06182020.pdf (accessed August 31, 2021).

Table 1 below provides a summary of the estimated burden hours and Table 2 provides a summary of the labor costs associated with the burden hours.

Table 1—Total Estimated Burden Hours for Parts 541 and 542
IC No. | ICR title | Type of IC | Estimated number of respondents | Estimated number of responses | Estimated time per response | Total burden hours
1 | 541: Parts-Marking on 14 major parts (49 CFR 541.5(a)) | Third-Party Disclosure | 21 | 4.5 million | 2 minutes | 150,000
2 | 541: Reporting of Target Areas to NHTSA | Reporting | 21 | 23 | 20 hours | 460
3 | Maintaining a Record of the Target Areas | Recordkeeping | 21 | 21 | 0 hours | 0
4 | 542: Submissions for Determination of whether LDT Line is High Theft | Reporting | 1 | 1 | 45 hours | 45
5 | 542: Submission for Determination of whether LDT line Shares Interchangeable Parts with High Theft Line | Reporting | 1 | 1 | 45 hours | 45
Total |  |  |  |  |  | 150,550

Table 2—Estimated Labor Costs for Burden Hours
ICR No. | ICR title | Labor cost per hour | Time per response | Labor cost per response | Total burden hours | Total labor cost
1 | 541: Parts-Marking on 14 major parts (49 CFR 541.5(a)) | $33.02 | 2 minutes | $1.10 | 150,000 | $4,953,000
2 | 541: Reporting of Target Areas to NHTSA | 60.26 | 20 hours | 1,205.20 | 460 | 27,719.60 27,720
3 | Maintaining a Record of the Target Areas | N/A | 0 hours | N/A | 0 | 0
4 | 542: Submissions for Determination of whether LDT Line is High Theft | 60.26 | 45 hours | 2,711.70 | 45 | 2,711.70 2,712
5 | 542: Submission for Determination of whether LDT line Shares Interchangeable Parts with High Theft Line | 60.26 | 45 hours | 2,711.70 | 45 | 2,711.70 2,712
Totals |  |  |  |  | 150,550 | 4,986,114

Estimated Total Annual Cost Burden: $24,003,000.

49 CFR Part 541: NHTSA assumes that most manufacturers will use the less expensive method of labeling the major parts on vehicles, and not stamp the VINs onto major parts, based on historical practice and the agency's current understanding of how manufacturers fit labeling into the vehicle assembly line. The cost of this collection of information will comprise of printing costs for the labels affixed to the vehicle parts. There are no additional costs to maintain the target area designation because maintaining the designation is built into the production process of a new vehicle line and the record of the target designation is kept electronically in the normal course of business. NHTSA estimates that the average cost to print each label is $0.381. There are an average 14 parts per vehicle to label; therefore, the printing cost per vehicle is $5.33. At present, the agency estimates that 4.5 million motor vehicles annually must have their major parts marked. The total annual costs are estimated to be $ 24,003,000 for label identifiers ($5.33 × 4.5 million vehicles).

Information collection | Number of parts labeled per vehicle | Printing cost per label | Total printing cost per vehicle | Number of vehicles per year (million) | Total estimated printing cost
541: Parts-Marking on 14 major parts (49 CFR 541.5(a)) | 14 | $0.381 | $5.33 | 4.5 | $24,003,000

Target area submissions require no additional costs to the respondents above and beyond the labor costs.

49 CFR Parts 542: NHTSA estimates that meeting Part 542 involves no additional costs to the respondents above and beyond the labor costs.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995, 44 U.S.C. chapter 35, as amended; 49 CFR 1.49; and DOT Order 1351.29A.

Raymond R. Posten,
Associate Administrator for Rulemaking.

[FR Doc. 2022-09390 Filed 5-2-22; 8:45 am]

BILLING CODE 4910-59-P